DEPARTMENT OF HEALTH AND HUMAN SERVICES

Meeting of the Advisory Committee on Minority Health

AGENCY: Office of Minority Health, Office of the Secretary, Department of Health and Human Services.

ACTION: Notice of meeting.

SUMMARY: As stipulated by the Federal Advisory Committee Act, the U.S. Department of Health and Human Services (HHS or Department) is hereby giving notice that the Advisory Committee on Minority Health (ACMH) will hold a meeting. This meeting will be open to the public. Preregistration is required for the public to attend the meeting, provide comments, and/or distribute printed material(s) to ACMH members. Information about the meeting is available from the designated contact person and will be posted on the HHS Office of Minority Health (OMH) website: www.minorityhealth.hhs.gov. Information about ACMH activities can be found on the OMH website under the heading About OMH, Committees and Workgroups.

DATES: The ACMH meeting will be held on Friday, November 20, 2020, from 3 p.m. to 5:30 p.m. ET. If the Committee completes its work before 5:30 p.m., the meeting will end early.

ADDRESSES: The meeting will be held virtually and will be accessible by webcast. Participants must register for the meeting by 5 p.m. ET on November 18, 2020. Registered participants will receive webcast access information prior to the meeting.

FOR FURTHER INFORMATION CONTACT: Samuel Wu, Designated Federal Officer, Advisory Committee on Minority Health, Office of Minority Health, Department of Health and Human Services, Tower Building, 1101 Wootton Parkway, Suite 100, Rockville, Maryland 20852. Phone: 240-453-6173; email: OMH-ACMH@hhs.gov.

SUPPLEMENTARY INFORMATION: In accordance with Public Law 105-392, the ACMH was established to provide advice to the Deputy Assistant Secretary for Minority Health on improving the health of each racial and ethnic minority group and on the development of goals and specific program activities of the OMH.

The purpose of the November 2020 ACMH meeting is to finalize recommendations for improving access to and utilization of clinical preventive services among racial and ethnic minority populations. The recommendations will be given to the Deputy Assistant Secretary for Minority Health to inform efforts for removing barriers to achieving health equity.

The meeting is open to the public. Any individual who wishes to attend the meeting must register by sending an email to OMH-ACMH@hhs.gov by 5 p.m. ET on November 18, 2020. Each registrant should provide name, affiliation, phone number, and email address. Registrants will receive webcast access information via email. Individuals who plan to attend and need special assistance, such as sign language interpretation or other reasonable accommodations, should contact OMH-ACMH@hhs.gov and reference this meeting. Requests for special accommodations should be made at least ten (10) business days prior to the meeting.

Members of the public will have an opportunity to provide comments at the meeting. Public comments will be limited to two minutes per speaker during the time allotted. Individuals who would like to submit written statements should email OMH-ACMH@hhs.gov at least five (5) business days prior to the meeting.

Any members of the public who wish to distribute electronic or printed material(s) related to this meeting's topic to ACMH members should email the Designated Federal Officer at OMH-ACMH@hhs.gov. The material should be received by the Designated Federal Officer at least five (5) business days prior to the meeting.

Dated: November 2, 2020.
Samuel Wu,
Designated Federal Officer, Advisory Committee on Minority Health.

[FR Doc. 2020-24580 Filed 11-4-20; 8:45 am]

BILLING CODE 4150-29-P